ENVIRONMENTAL PROTECTION AGENCY

[EPA-R08-OPPT-2020-0013; FRL-10010-17-Region 8]

Proposed Information Collection Request; Comment Request; Environmental Protection Agency (EPA) Pollution Prevention (P2) Awards Program

AGENCY: Environmental Protection Agency (EPA).

ACTION: Notice.

SUMMARY: The Environmental Protection Agency (EPA), Pollution Prevention (P2) Awards Program is planning to submit an information collection request (ICR), Environmental Protection Agency (EPA) Pollution Prevention (P2) Awards Program (EPA ICR No.: 2614.01, OMB Control No. 2008—NEW) to the Office of Management and Budget (OMB) for review and approval in accordance with the Paperwork Reduction Act (PRA). Before doing so, the EPA is soliciting public comments on specific aspects of the proposed information collection as described below. This is a request for approval of a new collection. An Agency may not conduct, or sponsor, and a person is not required to respond to a collection of information, unless it displays a currently valid OMB control number.

DATES: Comments must be submitted on or before August 10, 2020.

ADDRESSES: Submit your comments, referencing Docket ID No. EPA-R08-OPPT-2020-0013, online using www.regulations.gov (our preferred method), or by email to payan.melissa@epa.gov. EPA's policy is that all comments received will be included in the public docket without change including any personal information provided, unless the comment includes profanity, threats, information claimed to be Confidential Business Information (CBI) or other information whose disclosure is restricted by statute.

FOR FURTHER INFORMATION CONTACT: Melissa Payan, EPA R8 Land, Chemical and Redevelopment Division Pollution Prevention Program, (8LCR-CES), Environmental Protection Agency R8, 1595 Wynkoop St. Denver, CO 80202; telephone number: 303-312-6511; email address: payan.melissa@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register document to announce the submission of the ICR to OMB and the opportunity to submit additional comments to OMB.

Abstract: EPA's Pollution Prevention (P2) Program is a voluntary program that encourages businesses/facilities to adopt P2 projects that reduces both financial costs (waste management and cleanup) and environmental costs (health problems and environmental damage). In passing the Pollution Prevention Act (PPA) in 1990, Congress found that there are significant opportunities for industry to reduce or prevent pollution at the source through cost-effective changes in production, operation, and raw materials use. Such changes offer industry substantial savings in reduced raw material, pollution control, and liability costs as well as help protect the environment and reduce risks to worker health and safety. 42 U.S.C. 13101(a)(2). Furthermore, the PPA states the Administrator shall “establish an annual award program to recognize a company or companies which operate outstanding or innovative source reduction programs” (PPA section 6604) 42 U.S.C. 13103(b)(13). The EPA P2 Awards Program is an annual, voluntary, and non-monetary awards program that will recognize companies that demonstrate leadership in innovative P2 practices and encourage other entities to consider P2 approaches. This ICR may be applicable to HQ, as well as any of the 10 Regional Offices that choose to participate and implement a P2 Awards Program.

Form numbers: EPA P2 Award Program Application—5800-005.

Respondents/affected entities: Intended Respondents include various types of businesses from all North American Industry Classification System (NAICS) codes. However, businesses need to be from a state in an EPA Region implementing this awards program.

Respondent's obligation to respond: Respondents are not obligated to respond. This is done on a voluntary basis.

Estimated number of respondents: Approximately 5-10 per region (total).

Frequency of response: Annually on a voluntary basis.

Total estimated burden: 19.5 hours per respondent (per year). Burden is defined at 5 CFR 1320.3(b).

Total estimated cost: $1,804.83 per respondent (per year), includes $0 annualized capital or operation & maintenance costs.

Changes in estimates: Not applicable at this time.

Dated: May 29, 2020.
Gregory Sopkin,
Regional Administrator, EPA Region 8.

[FR Doc. 2020-12636 Filed 6-10-20; 8:45 am]

BILLING CODE 6560-50-P